DEPARTMENT OF AGRICULTURE

Forest Service

McKean County, Pennsylvania; Intent To Prepare an Environmental Impact Statement; Proposed Martin Run Project

AGENCY: Forest Service, USDA.

SUMMARY: The Forest Service, Allegheny National Forest, Bradford Ranger District, will prepare a Draft Environmental Impact Statement to disclose the environmental consequences of the proposed Martin Run Project. The Forest Service is proposing actions that would move the Martin Run Project Area from the existing condition towards the Desired Future Condition (DFC) and would maintain the DFC in situations where it has been attained. The DFC is described in the Allegheny National Forest Land and Resource Management Plan (Forest Plan).

Proposed activities to meet the Desired Future Condition fall into four main categories.

(1) Timber harvest and reforestation treatments consist of: Shelterwood seedcut/removal cut, shelterwood removal cut, salvage removal cut, salvage shelterwood seed cut/removal cut, single tree selection, group selection, commercial thinning, salvage intermediate thinning, intermediate thinning, pre-commercial thinning, improvement cutting, manual site preparation and release, herbicide application, fertilization, fencing, controlled burning, scarification, and tree planting.

(2) Wildlife habitat improvement treatments consist of: Noncommercial thinning, oak/hickory/shrub underplanting, pruning and release of apple trees, release of white pine trees, hawthorn release, constructing new openings, opening reconditioning, planting/fencing shrubs in openings, mowing, topdressing, seeding with wildflowers and grass, constructing bat boxes, bluebird boxes and vernal ponds.

(3) Recreation treatments consist of: trail relocation and decomissioning, trail improvement, interpretation upgrades.

(4) Transportation treatments consist of: road decommissioning, road repair, road construction, road resurfacing, obtaining a right-of-way from an adjacent property owner, expanding stone pits, and changing road access.

DATES: Comments and suggestions concerning the scope of the analysis should be submitted (postmarked) by December 15, 2003 to ensure timely consideration.

ADDRESSES: Submit written, oral, or e-mail comments by: (1) Mail “Martin Run Project,” ID Team Leader, 29 Forest Service Dr., Bradford, PA 16701; (2) phone: 814-362-4613; (3) e-mail: anf/r9_allegheny@fs.fed.us (please note: when commenting by e-mail be sure to list Martin Run EIS in the subject line and include a U.S. Postal Service address so we may add you to our mailing list). For further information contact Jason A. Rodrigue, project team leader, Bradford Ranger District, at 814-362-4613 or mail/e-mail correspondence to addresses listed above.

SUPPLEMENTARY INFORMATION: The Allegheny National Forest Land and Resource Management Plan (Forest Plan) sets site-specific goals for the management of forest resources. The Martin Run Project includes portions of Management Area (MA) 3.0, which emphasizes timber harvesting as a means to make desired changes to forest vegetation and satisfy the public demand for wood products. The project area also includes portions of MA 6.1, which emphasizes providing habitat for wildlife, attractive scenery, and opportunities for semi-primitive motorized recreation. Finally, the project area includes portions of MA 8.0, which emphasizes protection of unique ecosystems for scientific purposes and dispersed recreation.

Preliminary Issues were identified based on past projects in the area (environmental assessments), issues developed for similar projects, and site-specific concerns raised by the resource specialists. These issues, listed below, will provide a framework that the Forest Service will use to analyze a range of alternatives, including No Action for the Project Area.

(1) Road management—The Martin Run project area contains a network of National Forest (NF) system, public, and private roads. The road system (in total) provides access for resource management, recreational opportunities for the public, access for private mineral owners, and forest research. Changes in the current National Forest road system will be supported by some people and opposed by others.

(2) Old growth connectivity and its management—Within the Martin Run project area, management conditions (i.e. Management Area designations) and on the ground investigations suggest managed old growth possibilities may center around connectivity on NF lands, riparian habitat, and social goals. The topic of old growth and its management has been an issue of previous concern within this project area and across the forest.

(3) Even-Aged/Uneven-Aged Management—Previous environmental analyses have shown that many members of the public have a strong interest in the silvicultural system used on National Forest lands. Forest Plan direction for the Martin Run Project area does not emphasize uneven-aged management. The Martin Run proposed action contains silvicultural prescriptions dominated by even-aged management with a few stands receiving uneven-aged prescriptions where favorable species composition prevails.

(4) Tionesta Scenic and Research Natural Area (TSRNA)—A recent Citizens' Wilderness Proposal (for review during forest plan revision) by the Friends of the Allegheny Wilderness includes seeking a wilderness designation for lands surrounding the TSRNA (approximately 14,960 acres in total). The proposed action for the Martin Run Project will continue with Forest Plan direction in this area.

Comment Requested: This notice of intent initiates the scoping process, which guides the development of the environmental impact statement. Your comments will help the Forest Service refine and enhance the list of issues that are considered when analyzing alternatives to the proposed action. When this analysis is nearly complete, the Draft EIS will be filed with the Environmental Protection Agency and become available for public review (expected by October 2004). At that time the Environmental Protection Agency will publish a Notice of Availability of the document in the Federal Register (this will begin the 45-day comment period on the Draft EIS). After the comment period ends on the Draft EIS, the comments will be analyzed and considered by the Forest Service in preparing the final environmental impact statement. The Final EIS is scheduled for release in March 2005.

Comments received, including names and addresses of those who comment, will be considered part of the public record and may be subject to public disclosure. Any person may request the Agency to withhold a submission from the public record by showing how the Freedom of Information Act (FOIA) permits such confidentiality.

The Forest Service believes it is important to give reviewers notice at this early stage of several court rulings related to public participation in the environmental review process. First, reviewers of draft environmental impact statements must structure their participation in the environmental review of the proposal so that it is meaningful and alerts an agency to the reviewer's position and contentions (Vermont Yankee Nuclear Power Corp. v. NRDC, 435 U.S. 519 553 (1978)). Also, environmental objections that could be raised at the draft environmental impact statement stage but that are not raised until after completion of the final environmental impact statement stage may be waived or dismissed by the courts (City of Angoon v. Hodel, 803 F.2nd 1016, 1022 [9th Cir. 1986] and Wisconsin Heritages, Inc. v. Harris, 490 F. Supp. 1334, 1338 (E.D. Wis. 1980)).

Because of the above rulings, it is very important that those interested in this proposed action participate by the close of the 45-day comment period so that substantive comments are made available to the Forest Service at a time when they can be meaningfully considered and responded to in the final environmental impact statement. Comments on the draft environmental impact statement should be as specific as possible. It is also helpful if comments refer to specific pages, sections, or chapters of the draft statement. Comments may also address the adequacy of the draft environmental impact statement or the merits of the alternatives formulated and environmental impact statement should be as specific as possible. It is also helpful if comments refer to specific pages, sections, or chapters of the draft statement. Comments may also address the adequacy of the draft environmental impact statement or the merits of the alternatives formulated and discussed in the statement. Reviewers may wish to refer to Council on Environmental Quality Regulations for implementing the procedural provisions of the National Environmental Policy Act at 40 CFR 1503.3 in addressing these points.

This decision will be subject to appeal under 36 CFR part 215. The responsible official is Nancy S. Larson, Deputy District Ranger, Bradford Ranger District, 29 Forest Service Way, Bradford, PA 16701.

Kevin B. Elliott,
Forest Supervisor.

[FR Doc. 03-28161 Filed 11-13-03; 8:45 am]

BILLING CODE 3410-11-P